DEPARTMENT OF COMMERCE

National Oceanic and Atmospheric Administration

[RTID 0648-XD890]

Mid-Atlantic Fishery Management Council (MAFMC); Public Meetings and Request for Comments

AGENCY: National Marine Fisheries Service (NMFS), National Oceanic and Atmospheric Administration (NOAA), Commerce.

ACTION: Notice; public meetings and request for comments.

SUMMARY: The Mid-Atlantic Fishery Management Council (Council) will hold three public hearings (one as a webinar) and accept written comments regarding an action intended to revise the species separation requirements in the Atlantic surfclam and ocean quahog fisheries.

DATES: The hearings will be held between May 9, 2024 and May 16, 2024. Written comments must be received by May 30, 2024. See SUPPLEMENTARY INFORMATION for details, including the dates and times for all hearings.

ADDRESSES: See SUPPLEMENTARY INFORMATION for hearing details.

Council address: Mid-Atlantic Fishery Management Council, 800 N State Street, Suite 201, Dover, DE 19901; telephone: (302) 674-2331; www.mafmc.org.

Written comments may be submitted to:

• Email to: jcoakley@mafmc.org (use subject “SCOQ Species Separation”).

• Via webform at: https://www.mafmc.org/comments/scoq-species-separation.

• Mail to: Chris Moore, Ph.D., Executive Director, Mid-Atlantic Fishery Management Council, 800 North State Street, Suite 201, Dover, DE 19901. Mark the outside of the envelope “SCOQ Species Separation.”

FOR FURTHER INFORMATION CONTACT: Christopher M. Moore, Ph.D., Executive Director, Mid-Atlantic Fishery Management Council, telephone: (302) 526-5255.

SUPPLEMENTARY INFORMATION: The Council will hold three public hearings and accept written comments regarding an action intended to modify the current species separation requirements in the Atlantic surfclam and ocean quahog fisheries. Additional details, including the public hearing document can be found at: https://www.mafmc.org/actions/scoq-species-separation.

Hearing 1—Webinar. Thursday, May 9, 2024. 6 p.m.-9 p.m., Connection details can be found at the Council's website calendar or https://www.mafmc.org/actions/scoq-species-separation.

Hearing 2—Philadelphia, Pennsylvania. Tuesday May 14, 2024. 6:30 p.m.-9:30 p.m., Embassy Suites Philadelphia Airport. 9000 Bartram Avenue, Philadelphia, PA 19153; phone: (215) 365-4500.

Hearing 3—Braintree, Massachusetts. Thursday, May 16, 2024. 6:30 p.m.-9:30 p.m., Hyatt Place Boston/Braintree 50 Forbes Rd, Braintree, MA 02184; phone: (781) 848-0600.

Written comments are accepted at the hearings or via the submission methods described above, from May 1, 2024-May 30, 2024.

Special Accommodations

These meetings are physically accessible to people with disabilities. Requests for sign language interpretation or other auxiliary aid should be directed to Shelley Spedden, (302) 526-5251, at least 5 days prior to the meeting date.

Authority: 16 U.S.C. 1801 et seq.

Dated: April 18, 2024.
Rey Israel Marquez,
Acting Deputy Director, Office of Sustainable Fisheries, National Marine Fisheries Service.

[FR Doc. 2024-08653 Filed 4-22-24; 8:45 am]

BILLING CODE 3510-22-P